INTERNATIONAL TRADE COMMISSION

[Investigation Nos. 701-TA-570 and 731-TA-1346 (Final)]

Aluminum Foil From China

Determinations

On the basis of the record ¹ developed in the subject investigations, the United States International Trade Commission (“Commission”) determines, pursuant to the Tariff Act of 1930 (“the Act”), that an industry in the United States is materially injured by reason of imports of aluminum foil from China that have been found by the U.S. Department of Commerce (“Commerce”) to be sold in the United States at less than fair value (“LTFV”) and to be subsidized by the government of China.²

¹ The record is defined in sec. 207.2(f) of the Commission's Rules of Practice and Procedure (19 CFR 207.2(f)).

² 83 FR 9274 and 83 FR 9282 (March 5, 2018).

Background

The Commission, pursuant to sections 705(b) and 735(b) of the Act (19 U.S.C. 1671d(b) and 19 U.S.C. 1673d(b)), instituted these investigations effective March 9, 2017, following receipt of a petition filed with the Commission and Commerce by The Aluminum Association Trade Enforcement Working Group and its individual members. The final phase of the investigations was scheduled by the Commission following notification of preliminary determinations by Commerce that imports of aluminum foil from China were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on November 22, 2017 (82 FR 55633). The hearing was held in Washington, DC, on February 8, 2018, and all persons who requested the opportunity were permitted to appear in person or by counsel.

The Commission made these determinations pursuant to sections 705(b) and 735(b) of the Act (19 U.S.C. 1671d(b) and 19 U.S.C. 1673d(b)). It completed and filed its determinations in these investigations on April 9, 2018. The views of the Commission are contained in USITC Publication 4771 (April 2018), entitled Aluminum Foil From China: Investigation Nos. 701-TA-570 and 731-TA-1346 (Final).

By order of the Commission.
Issued: April 9, 2018.
Lisa Barton,
Secretary to the Commission.

[FR Doc. 2018-07665 Filed 4-12-18; 8:45 am]

BILLING CODE 7020-02-P